DEPARTMENT OF LABOR

Mine Safety and Health Administration

Petitions for Modification

The following parties have filed petitions to modify the application of existing safety standards under section 101(c) of the Federal Mine Safety and Health Act of 1977.

1. Eastern Associated Coal Corporation

[Docket No. M-2004-037-C]

Eastern Associated Coal Corporation, P.O. Box 1990, Henderson, Kentucky 42420 has filed a petition to modify the application of 30 CFR 75.503 (Permissible electric face equipment; maintenance) and 30 CFR 18.35 (Portable trailing Cables and Cords) to its Harris No. 1 Mine (MSHA I.D. No. 46-01271) located in Boone County, West Virginia. The petitioner requests a modification of the existing standard to permit the use of trailing cables for certain roof bolters, mobile roof supports, and shuttle cars longer than the cable lengths specified in 30 CFR 18.35. The maximum length of the cables supplying the roof bolters, and mobile roof supports shall not exceed 900 feet. The maximum length of the trailing cables supplying shuttle cars will not exceed 800 feet. The trailing cable(s) for the 480-volt mobile roof support(s) will not be smaller than a No. 4 A.W.G, the trailing cable(s) for roof bolters (E) will not be smaller than No. 2 A.W.G., and the cables for shuttle cars will not be smaller than No. 1/0. This petition will apply only to trailing cables that supply 480-volt, three phase, and alternating current to roof bolters, mobile roof supports, and 300-volt D.C shuttle cars. The petitioner has listed specific procedures in this petition that would be followed when implementing the proposed alternative method. The petitioner asserts that the proposed alternative method would provide at least the same measure of protection as the existing standard.

2. Brooks Run Mining Company, LLC

[Docket No. M-2004-038-C]

Brooks Run Mining Company, LLC, 25 Little Birch Road, Sutton, West Virginia 26601 has filed a petition to modify the application of 30 CFR 75.1711 (Sealing of mines) to its Mine No. 4 (MSHA I.D. No. 46-06213) located in Webster County, West Virginia. The petitioner proposes to barricade or fence-off mine openings to prevent entrance to the Mine No. 4, instead of sealing mine openings. The petitioner states that the Mine No. 4 has remaining coal reserves that may be economically recoverable in the future, currently no miners are employed at the mine site, and the mine has been idle and the portals barricaded since March 25, 1993. The petitioner asserts that the proposed alternative method would provide at least the same measure of protection as the existing standard.

3. Vigo Coal Company

[Docket No. M-2004-039-C]

Vigo Coal Company, 14649 Highway 41 North, Evansville, Indiana 47725 has filed a petition to modify the application of 30 CFR 77.1304(a) (Blasting agents; special provisions) to its Friendsville Mine (MSHA I.D. No. 11-03064) located in Wabash County, Illinois, and Cypress Creek Mine (MSHA I.D. No. 12-02178) located in Warrick County, Indiana. The petitioner requests a modification of the existing standard to permit the blending of coal with ammonium nitrate and fuel oil (ANFO) to form an efficient and cost effective blasting agent at the Friendsville Mine and Cypress Mine. The petitioner states that proposed guidelines will be provided for testing, storage, transportation, mixing and use of coal and ANFO blends. The petitioner has listed specific terms and conditions in this petition that will be followed when implementing the proposed alternative method. The petitioner asserts that the proposed alternative method will not result in a diminution of safety to the miners.

Request for Comments

Persons interested in these petitions are encouraged to submit comments via e-mail to comments@msha.gov, by fax at (202) 693-9441, or by regular mail to the Office of Standards, Regulations, and Variances, Mine Safety and Health Administration, 1100 Wilson Boulevard, Room 2350, Arlington, Virginia 22209. All comments must be postmarked or received in that office on or before October 18, 2004. Copies of these petitions are available for inspection at that address.

Dated at Arlington, Virginia, this 10th day of September 2004.
Marvin W. Nichols, Jr.,
Director, Office of Standards, Regulations, and Variances.

[FR Doc. 04-20883 Filed 9-15-04; 8:45 am]

BILLING CODE 4510-43-P